DEPARTMENT OF THE TREASURY

Submission for OMB Review; Comment Request

AGENCY: Department of the Treasury.

ACTION: Notice.

SUMMARY: The Department of the Treasury will submit the following information collection request to the Office of Management and Budget (OMB) for review and clearance in accordance with the Paperwork Reduction Act of 1995, Public Law 104-13, on or after the date of publication of this notice.

DATES: Comments should be received on or before October 29, 2015 to be assured of consideration.

ADDRESSES: Send comments regarding the burden estimate, or any other aspect of the information collection, including suggestions for reducing the burden, to (1) Office of Information and Regulatory Affairs, Office of Management and Budget, Attention: Desk Officer for Treasury, New Executive Office Building, Room 10235, Washington, DC 20503, or email at OIRA_Submission@OMB.EOP.gov and (2) Treasury PRA Clearance Officer, 1750 Pennsylvania Ave. NW., Suite 8140, Washington, DC 20220, or email at PRA@treasury.gov.

FOR FURTHER INFORMATION CONTACT: Copies of the submission may be obtained by emailing PRA@treasury.gov, or viewing the entire information collection request at www.reginfo.gov.

SUPPLEMENTARY INFORMATION:

Alcohol and Tobacco Tax and Trade Bureau (TTB)

OMB Number: 1513-0027.

Type of Review: Extension without change of a currently approved collection.

Title: Removals of Tobacco Products, Cigarette Papers and Tubes Without Payment of Tax.

Form: TTB F 5200.14.

Abstract: Manufacturers of tobacco products, cigarette papers, or cigarette tubes, cigar manufacturers operating in a customs bonded manufacturing warehouse, and export warehouse proprietors may remove such products without payment of the Federal tobacco excise tax for export or for consumption beyond the jurisdiction of the internal revenue laws of the United States, under 26 U.S.C. 5704(b). The manufacturer or export warehouse proprietor records these removals on TTB F 5200.14, which is also signed by the recipient or a customs officer, certifying the appropriate receipt of the products. The form, therefore, is used to show that these tax-free removals are in fact delivered in compliance with the law.

Affected Public: Private Sector: Businesses or other for-profits.

Estimated Annual Burden Hours: 61,600.

Dated: September 24, 2015.
Dawn D. Wolfgang,
Treasury PRA Clearance Officer.

[FR Doc. 2015-24637 Filed 9-28-15; 8:45 am]

BILLING CODE 4810-31-P